DEPARTMENT OF TRANSPORTATION

Federal Motor Carrier Safety Administration

[Docket No. FMCSA-2017-0015]

Qualification of Drivers; Exemption Applications; Vision

AGENCY: Federal Motor Carrier Safety Administration (FMCSA), DOT.

ACTION: Notice of denials.

SUMMARY: FMCSA announces its denial of 114 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 114 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

Drew S. Buss (IN), does not have sufficient driving experience of the past 3 years under normal highway operating conditions (limited hours).

The following 33 applicants had no experience operating a CMV:

Teressa J. Banaei (OH)

Edmund J. Burke (WI)

Charles K. Collins (ID)

Jermaine B. Davis (NY)

Bryan G. Felling (MN)

John T. Ferguson (IN)

Lee J. Gaffney (OH)

Porfirio Guzman (NY)

Davey Harris (IL)

Casey G. Harvie (CO)

Jay A. Hendrick (TX)

Clayton S. Howard (IL)

Michael J. Klein (IA)

Lonnie R. Liles (MI)

Anthony R. Lomangino (CT)

Jonathan Marin (NJ)

Peter Markee (NJ)

Michael D. Mitchell (OK)

Jack T. Moyers (GA)

Christopher C. Mullings (CT)

Michael C. Pitt (MI)

Antonio J. Potts (FL)

Bruce A. Robinson (GA)

Larry D. Robinson (GA)

David A. Rossman (IL)

Derrick P. Rotherham (OR)

Jerry W. Sennett (OK)

Frances M. Simmonette (PA)

Jacob A. Smith (TN)

Clifford C. Stamm (CT)

Jerry Vance (IL)

Jeffrey Varner (NC)

Nathaniel C. Volk (IL)

The following 11 applicants did not have 3 years of experience driving a CMV on public highways with their vision deficiencies:

Norman E. Howes (MN)

Jose A. Mercedes (OH)

Charles W. Ohman (IA)

Jay S. Peck (WA)

Timothy J. Shaver (IA)

Robert F. Swartrout (OR)

Robert J. Trinkle (PA)

Clifford B. Webb III (VA)

Richard E. Wells (CA)

John A. Wilbert (OH)

Leslie M. Wilson (MO)

The following 6 applicants did not have 3 years of recent experience driving a CMV with the vision deficiency:

Ahmed M. Gutale (MN)

Deborah Hughes (CA)

Mia T. Jones (DC)

Jimmy R. Kite (TN)

Mariano Marez (NM)

Marlin D. Stoltzfus (PA)

The following 11 applicants did not have sufficient driving experience during the past 3 years under normal highway operating conditions (gaps in driving record):

Baltazar Arreola-Evangelista (GA)

Paul R. Beckett (MN)

Larry G. Bell (MI)

Joseph S. Byler (NC)

Darin V. Davis (MD)

William G. Gamble (IN)

Jonathen M. Gilligan (NY)

Roger D. Grunert (KS)

Sait Hernandez (UT)

David G. Segall (WY)

Benjamin H. Tafolla (IL)

The following applicant 2 applicants were charged with moving violations in conjunction with CMV accidents:

Randol C. Hoefner (WI)

Mark A. Matthies (IL)

The following 3 applicants did not have optometrists or ophthalmologists willing to make statements that they are able to operate CMVs from a vision standpoint:

Joshua Kline (PA)

Robert E. McMahon (NV)

Jeremy E. Studebaker (IN)

The following 7 applicants were denied for multiple reasons:

Arcardio D. Booze (MD)

Cody R. Chase (VT)

Tammy C. Clark (FL)

Scott R. Engler (KY)

Richard Ikey (OH)

Tyler J. Lung (OR)

Jorge Maldonado (NY)

The following 8 applicants have not had stable vision for the preceding 3-year period:

Hani Abiyounes (CA)

William H. Baelz (IN)

Richard W. Boger (MD)

Jason A. Holland (IA)

Michael Lendzin (NY)

Eugene R. Ruchti (MN)

Francis J. Toth (PA)

Tim R. Washburn (AZ)

Jason J. Merrifield (IA) does not meet the vision standard in his better eye.

The following 11 applicants met the current federal vision standards. Exemptions are not required for applicants who meet the current regulations for vision:

Jose Francisco Briones Hernandez (FL)

Dylan Incha (WI)

Bradley A. Katzenberger (IA)

Preston J. Lefeber (WI)

Kenneth Meyer (TN)

Haley J. O'Neal (GA)

Barbara A. Pace (TX)

Duffield M. Rose (SC)

John P. Smith (MD)

Mark A. Walters (NC)

David E. Zetsch (TN)

The following 2 applicants drove interstate while restricted to intrastate driving:

Gary K. Sparks (NC)

William E. Tyler (IL)

The following 17 applicants will not be driving interstate, intrastate commerce, or are not required to carry a DOT medical card:

Timothy J. Baszak (NJ)

Daniel A. Bell (MD)

George U. Clendenny (IN)

Jerry Collado (NY)

John D. Davidson (TX)

Nicholas P. Graab (WI)

Donald N. Hjuler (IA)

Gary N. Keathley (AR)

Roy L. Long (OK)

Jacqueline A. Mason (TN)

Michael D. Mattingly (KY)

William W. Nichols (NV)

Angel A. Rizo (CA)

Brian T. Sullivan (NY)

Timothy Tupa (MN)

James P. Weir (FL)

Kevin E. Wenndt (IA)

Yolanda P. Davis (NJ) performs transportation for the Federal government, state, or any political sub-division of the state.

Issued on: April 11, 2017.
Larry W. Minor,
Associate Administrator for Policy.

[FR Doc. 2017-07888 Filed 4-18-17; 8:45 am]

BILLING CODE 4910-EX-P